DEPARTMENT OF ENERGY

Federal Energy Regulatory Commission

Combined Notice of Filings # 1

December 31, 2008.

Take notice that the Commission received the following electric rate filings:

Docket Numbers: ER99-3427-007; ER00-2398-009.

Applicants: SOWEGA Power LLC; Baconton Power LLC.

Description: SOWEGA Power LLC et al submits request for determination of category one status and submission of amendments to market based sales tariffs.

Filed Date: 12/23/2008.

Accession Number: 20081229-0157.

Comment Date: 5 p.m. Eastern Time on Tuesday, January 13, 2009.

Docket Numbers: ER02-669-008; ER03-623-008; ER98-3566-015;

Applicants: Bayswater Peaking Facility, LLC; Jamaica Bay Peaking Facility, LLC; FPL Energy Power Marketing, Inc.

Description: Bayswater Peaking Facility, LLC et al submits tariff amendments in accordance with Order Nos. 697 and 697A.

Filed Date: 12/23/2008.

Accession Number: 20081230-0008.

Comment Date: 5 p.m. Eastern Time on Tuesday, January 13, 2009.

Docket Numbers: ER02-1600-005.

Applicants: Green Mountain Energy Company.

Description: Green Mountain Energy Company submits revisions to its market-based rate wholesale power sales at that time.

Filed Date: 12/22/2008.

Accession Number: 20081230-0009.

Comment Date: 5 p.m. Eastern Time on Monday, January 12, 2009.

Docket Numbers: ER03-329-009; ER07-597-004.

Applicants: NORTHWESTERN CORP, Montana Generation, LLC.

Description: Updated Market Power Analysis.

Filed Date: 12/30/2008.

Accession Number: 20081230-5114.

Comment Date: 5 p.m. Eastern Time on Monday, March 2, 2009.

Docket Numbers: ER04-374-010; ER99-2341-012.

Applicants: Invenergy TN LLC; Hardee Power Partners Limited.

Description: Invenergy TN LLC et al submits filing indicating their status as category one sellers as defined in the Commissions regulations.

Filed Date: 12/23/2008.

Accession Number: 20081230-0046.

Comment Date: 5 p.m. Eastern Time on Tuesday, January 13, 2009.

Docket Numbers: ER04-944-004.

Applicants: Orion Power Midwest, L.P., Reliant Energy Mid-Atlantic Pwr Holdings, Reliant Energy New Jersey Holdings, LLC, Reliant Energy Seward, LLC, Reliant Energy Wholesale Generation, LLC.

Description: Reliant Energy Wholesale Generation, LLC submits a supplement to the June 30, 2008 Triennial Market Update.

Filed Date: 12/30/2008.

Accession Number: 20081230-5112.

Comment Date: 5 p.m. Eastern Time on Wednesday, January 21, 2009.

Docket Numbers: ER04-1181-003; ER04-1182-003; ER04-1184-003; ER04-1186-003.

Applicants: KGEN Hinds LLC, KGen Hot Spring LLC, KGEN Murray I and II LLC, KGEN SANDERSVILLE LLC.

Description: KGen Hinds LLC et al. submits revised market based rate tariffs pursuant to Commissions Order 697 and 697-A.

Filed Date: 12/23/2008.

Accession Number: 20081230-0044.

Comment Date: 5 p.m. Eastern Time on Tuesday, January 13, 2009.

Docket Numbers: ER05-143-004; ER99-1801-011; ER04-944-006.

Applicants: Reliant Energy Florida, LLC; Reliant Energy Services, Inc., Reliant Energy Wholesale Generation, LLC.

Description: Reliant SE MBR Entities submits its triennial market power analysis and revisions to certain of their market-based rate tariffs.

Filed Date: 12/23/2008.

Accession Number: 20081230-0047.

Comment Date: 5 p.m. Eastern Time on Friday, February 20, 2009.

Docket Numbers: ER07-521-007.

Applicants: New York Independent System Operator, Inc

Description: New York Independent System Operator, Inc submits compliance filing.

Filed Date: 12/22/2008.

Accession Number: 20081224-0100.

Comment Date: 5 p.m. Eastern Time on Monday, January 12, 2009.

Docket Numbers: ER07-650-001.

Applicants: Integrys Energy Services Inc.

Description: Integrys Energy Services, Inc submits a request for category one seller classification for the Southeast region.

Filed Date: 12/23/2008.

Accession Number: 20081229-0156.

Comment Date: 5 p.m. Eastern Time on Tuesday, January 13, 2009.

Docket Numbers: ER07-1223-001; ER07-1222-001; ER07-1208-002; ER07-1202-002; ER07-1246-002.

Applicants: Cow Branch Wind Power, LLC, CR Clearing, LLC, Wind Capital Holdings, LLC, Harvest WindFarm, LLC, JD WIND 4, LLC.

Description: Cow Branch Wind Power, LLC et al. submit request for classification as a category one seller and compliance filings.

Filed Date: 12/23/2008.

Accession Number: 20081230-0040.

Comment Date: 5 p.m. Eastern Time on Tuesday, January 13, 2009.

Docket Numbers: ER08-237-003.

Applicants: Forward Energy, LLC.

Description: Forward Energy LLC submits revisions to its market based rate tariff.

Filed Date: 12/23/2008.

Accession Number: 20081229-0159.

Comment Date: 5 p.m. Eastern Time on Tuesday, January 13, 2009.

Docket Numbers: ER08-1172-003.

Applicants: Grand Ridge Energy LLC.

Description: Grand Ridge Energy LLC submits revisions to its market based rate tariff.

Filed Date: 12/23/2008.

Accession Number: 20081229-0158.

Comment Date: 5 p.m. Eastern Time on Tuesday, January 13, 2009.

Docket Numbers: ER08-1237-001; ER08-1288-002; ER07-357-005; ER05-41-001; ER03-1340-004.

Applicants: Shiloh Wind Project 2, LLC; Wapsipinicon Wind Project, LLC; Fenton Power Partners I, LLC; Oasis Power Partners, LLC; Chanarambie Power Partners LLC.

Description: The ENXco Companies submits notice of non-material change in status to comply with Order 697 etc.

Filed Date: 12/23/2008.

Accession Number: 20081230-0045.

Comment Date: 5 p.m. Eastern Time on Tuesday, January 13, 2009

Docket Numbers: ER08-1567-001.

Applicants: Southern California Edison Company.

Description: Southern California Edison Company submits amended rate sheets to its Clustering Large Generator Interconnection Procedure that is part of SCR's Wholesale Distribution Access Tariff pursuant to FERC's 11/20/08 Order.

Filed Date: 12/22/2008.

Accession Number: 20081229-0154.

Comment Date: 5 p.m. Eastern Time on Monday, January 12, 2009.

Docket Numbers: ER09-393-001.

Applicants: West Oaks Energy, LLC.

Description: West Oaks Energy, LLC submits a revised application for Market-Based Rate Authority, filed on 12/10/08.

Filed Date: 12/23/2008.

Accession Number: 20081229-0115.

Comment Date: 5 p.m. Eastern Time on Tuesday, January 13, 2009.

Docket Numbers: ER09-394-000.

Applicants: Southwest Power Pool, Inc.

Description: Southwest Power Pool, Inc submits proposed revisions to its Open Access Transmission Tariff.

Filed Date: 12/23/2008.

Accession Number: 20081230-0007.

Comment Date: 5 p.m. Eastern Time on Tuesday, January 13, 2009.

Docket Numbers: ER09-442-000.

Applicants: Southwest Power Pool, Inc.

Description: Southwest Power Pool, Inc submits an executed Large Generator Interconnection Agreement between SPP as Transmission Provider, et al. as Interconnection Customer.

Filed Date: 12/22/2008.

Accession Number: 20081229-0117.

Comment Date: 5 p.m. Eastern Time on Monday, January 12, 2009.

Docket Numbers: ER09-443-000.

Applicants: Southwest Power Pool, Inc.

Description: Southwest Power Pool, Inc request for Waiver of Tariff Provision and Expedited Treatment.

Filed Date: 12/22/2008.

Accession Number: 20081229-0118.

Comment Date: 5 p.m. Eastern Time on Monday, January 12, 2009.

Docket Numbers: ER09-444-000.

Applicants: Southwest Power Pool, Inc.

Description: Southwest Power Pool, Inc submits revisions to its Open Access Transmission tariff in order to adopt changes to its Credit Policy.

Filed Date: 12/22/2008.

Accession Number: 20081229-0116.

Comment Date: 5 p.m. Eastern Time on Monday, January 12, 2009.

Docket Numbers: ER09-451-000.

Applicants: San Diego Gas & Electric Company.

Description: San Diego Gas & Electric Co submits revisions to its Transmission Owner Tariff, FERC Electric Tariff, Original Volume 11 pertaining to their Reliability Services Revenue Requirements and Reliability Services Rate Schedule, effective 1/1/09.

Filed Date: 12/23/2008.

Accession Number: 20081230-0147.

Comment Date: 5 p.m. Eastern Time on Tuesday, January 13, 2009.

Docket Numbers: ER09-452-000.

Applicants: San Diego Gas & Electric Company

Description: San Diego Gas & Electric Co submits changes in rates in its Transmission Owner Tariff to reflect annual updates to the retail Transmission Revenue Balancing Account Adjustment Rates for service on and after 1/1/09 etc.

Filed Date: 12/23/2008.

Accession Number: 20081229-0120

Comment Date: 5 p.m. Eastern Time on Tuesday, January 13, 2009.

Docket Numbers: ER09-453-000.

Applicants: Desert Generation & Trans Co-Oper., Inc.

Description: Desert Generation & Transmission Co-operative, Inc submits an amendment to its service agreement for wholesale requirements service to one of its members, Dixie-Escalante Rural Electric Association, Inc.

Filed Date: 12/23/2008.

Accession Number: 20081229-0114.

Comment Date: 5 p.m. Eastern Time on Tuesday, January 13, 2009.

Docket Numbers: ER09-454-000.

Applicants: ISO New England Inc. & New England Power.

Description: ISO New England Inc et al. submits amendments to the ISO Financial Assurance Policy for Market Participants that is Exhibit 1A to Section I of the ISO Tariff and to the ISO Billing Policy that is Exhibit 1D to Section I of the ISO Tariff etc.

Filed Date: 12/23/2008.

Accession Number: 20081229-0113.

Comment Date: 5 p.m. Eastern Time on Tuesday, January 13, 2009.

Docket Numbers: ER09-455-000.

Applicants: Portland General Electric Company.

Description: Portland General Electric Co submits their First Revised Rate Schedule 49, a Long Term Power Sale Agreement with San Diego Gas & Electric Co.

Filed Date: 12/22/2008.

Accession Number: 20081229-0119.

Comment Date: 5 p.m. Eastern Time on Monday, January 12, 2009.

Docket Numbers: ER09-457-000.

Applicants: Midwest Independent System Transmission.

Description: Midwest Independent System Operator, Inc submit proposed revisions to its Open Access Transmission, Energy and Operating Reserve Markets Tariff.

Filed Date: 12/22/2008.

Accession Number: 20081229-0111.

Comment Date: 5 p.m. Eastern Time on Monday, January 12, 2009.

Docket Numbers: ER09-458-000.

Applicants: Calpine Energy Services, L.P.

Description: Calpine Energy Services, LP submits proposed revisions to its market-based rate tariff to permit the sale or reassignment of transmission capacity or transmission rights.

Filed Date: 12/17/2008.

Accession Number: 20081229-0110.

Comment Date: 5 p.m. Eastern Time on Wednesday, January 07, 2009.

Docket Numbers: ER09-459-000.

Applicants: American Transmission Systems, Incorpora.

Description: American Transmission System, Incorporated submits Wholesale Distribution Service Agreement between ATSI as agent for Pennsylvania Power Company and the Borough of Wampum, PA.

Filed Date: 12/22/2008.

Accession Number: 20081229-0108.

Comment Date: 5 p.m. Eastern Time on Monday, January 12, 2009.

Docket Numbers: ER09-460-000.

Applicants: Arizona Public Service Company.

Description: Arizona Public Service Company submits proposed revisions to APS's FERC Electric Tariff, Volume 3 APS's Market Rate Tariff.

Filed Date: 12/22/2008.

Accession Number: 20081229-0109.

Comment Date: 5 p.m. Eastern Time on Monday, January 12, 2009.

Docket Numbers: ER09-461-000.

Applicants: Global Energy Investments Group, LLC.

Description: Global Energy Investments Group, LLC submits notice of cancellation of its FERC Electric Tariff, Original Volume 1.

Filed Date: 12/23/2008.

Accession Number: 20081229-0107.

Comment Date: 5 p.m. Eastern Time on Tuesday, January 13, 2009.

Docket Numbers: ER09-462-000.

Applicants: California Independent System Operator C.

Description: California Independent System Operator Corporation (Southern Cities) submits an amendment to the Transmission Control Agreement and Participating Transmission Owners.

Filed Date: 12/23/2008.

Accession Number: 20081229-0106.

Comment Date: 5 p.m. Eastern Time on Tuesday, January 13, 2009.

Docket Numbers: ER09-463-000.

Applicants: Southwest Power Pool, Inc.

Description: Southwest Power Pool, Inc submits an executed Large Generator Interconnection Agreement with Southwestern Public Service Co.

Filed Date: 12/23/2008.

Accession Number: 20081229-0105.

Comment Date: 5 p.m. Eastern Time on Tuesday, January 13, 2009.

Docket Numbers: ER09-464-000.

Applicants: PEAK Capital Management, LLC.

Description: Peak Capital Management, LLC submits notice of cancellation of its FERC Electric Tariff, Original Volume 1.

Filed Date: 12/23/2008.

Accession Number: 20081229-0104.

Comment Date: 5 p.m. Eastern Time on Tuesday, January 13, 2009.

Docket Numbers: ER09-465-000.

Applicants: American Electric Power Service Corporation.

Description: AEP Operating Companies submits a second revision to the Interconnection and Local Delivery Service Agreement 1428 between the Village of Shiloh and AEP.

Filed Date: 12/23/2008.

Accession Number: 20081229-0103.

Comment Date: 5 p.m. Eastern Time on Tuesday, January 13, 2009.

Docket Numbers: ER09-466-000.

Applicants: New York Independent System Operator, Inc.

Description: New York Independent System Operator, Inc submits tariff revisions to its Market Administration and Control Area Services Tariff and its Open Access Transmission Tariff etc.

Filed Date: 12/23/2008.

Accession Number: 20081229-0102.

Comment Date: 5 p.m. Eastern Time on Tuesday, January 13, 2009.

Docket Numbers: ER09-467-000.

Applicants: ISO New England Inc.

Description: ISO New England, Inc submits their Forward Capacity Auction Results Filing.

Filed Date: 12/23/2008.

Accession Number: 20081229-0101.

Comment Date: 5 p.m. Eastern Time on Tuesday, January 13, 2009.

Docket Numbers: ER09-468-000.

Applicants: Midwest Independent Transmission System.

Description: Midwest Independent Transmission System Operator, Inc et al. submits proposed revisions to their Joint Operating Agreement and Congestion Management Process as part of the RTOs' 2008 initiative to update their JOA.

Filed Date: 12/19/2008.

Accession Number: 20081229-0100.

Comment Date: 5 p.m. Eastern Time on Friday, January 09, 2009.

Docket Numbers: ER09-469-000.

Applicants: Midwest Independent Transmission System.

Description: Midwest Independent Transmission System Operator, Inc et al. submit revisions to their Joint Operating Agreement and Congestion Management Process as part of the RTOs' 2008 initiative to update their JOA.

Filed Date: 12/19/2008.

Accession Number: 20081229-0099.

Comment Date: 5 p.m. Eastern Time on Friday, January 9, 2009.

Take notice that the Commission received the following electric reliability filings:

Docket Numbers: RR08-4-003.

Applicants: North American Electric Reliability Corp.

Description: Compliance Filing of the North American Electric Reliability Corporation in Response to Paragraph 76 of the Order on Rehearing and Clarification and Accepting Compliance Filing.

Filed Date: 12/19/2008.

Accession Number: 20081219-5161.

Comment Date: 5 p.m. Eastern Time on Wednesday, January 21, 2009.

Docket Numbers: RR08-4-004.

Applicants: North American Electric Reliability Corp.

Description: Compliance Filing of the North American Electric Reliability Corporation in Response to Paragraph 47 of the Order on Violation Severity Levels Proposed by the Electric Reliability Organization.

Filed Date: 12/19/2008.

Accession Number: 20081219-5162.

Comment Date: 5 p.m. Eastern Time on Wednesday, January 21, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-304 Filed 1-9-09; 8:45 am]

BILLING CODE 6717-01-P